NATIONAL AERONAUTICS AND SPACE ADMINISTRATION

[Notice: (21-061)]

Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee. The meeting will be held for the purpose of soliciting, from the scientific community and other persons, scientific and technical information relevant to program planning.

DATES: Monday, October 18, 2021, 10:00 a.m. to 6:00 p.m., Eastern Time; and Tuesday, October 19, 2021, 10:00 a.m. to 6:00 p.m., Eastern Time

ADDRESSES: Virtual meeting via WebEx and dial-in teleconference only.

FOR FURTHER INFORMATION CONTACT: Ms. Karshelia Kinard, Science Mission Directorate, NASA Headquarters, Washington, DC 20546, (202) 358-2355 or karshelia.kinard@nasa.gov.

SUPPLEMENTARY INFORMATION: As noted above, this meeting will be available to the public telephonically and by WebEx only. For Monday, October 18, 2021, the meeting event address for attendees is: https://nasaenterprise.webex.com/nasaenterprise/onstage/g.php?MTID=e3c5b67d79794f2efcc35cc94812500f8. The Event meeting number is: 199 427 6706 and the password is: sEwJ5wMM@28. For audio, you may provide your phone number when you join the event, or call US Toll: +1-415-527-5035 (Access code: 199 427 6706). For Tuesday, October 19, 2021, the meeting event address for attendees is: https://nasaenterprise.webex.com/nasaenterprise/onstage/g.php?MTID=ecfa6e20c22be22391df3038d08a8c781. The Event meeting number is: 2761 489 8042 and the password is: JJzwJ44Aq*2. For audio, you may provide your phone number when you join the event, or call US Toll: +1-415-527-5035 (Access code: 2761 489 8042).

The agenda for the meeting includes the following topics:

—Planetary Science Division Update

—Planetary Science Division Research and Analysis Program Update

It is imperative that the meeting be held on these dates to accommodate the scheduling priorities of the key participants.

Patricia Rausch,
Advisory Committee Management Officer, National Aeronautics and Space Administration.

[FR Doc. 2021-20801 Filed 9-23-21; 8:45 am]

BILLING CODE 7510-13-P